DEPARTMENT OF COMMERCE

International Trade Administration

[A-580-880]

Heavy Walled Rectangular Welded Carbon Steel Pipes and Tubes From the Republic of Korea: Final Results of Antidumping Duty Administrative Review; 2022-2023

AGENCY: Enforcement and Compliance, International Trade Administration, Department of Commerce.

SUMMARY: The U.S. Department of Commerce (Commerce) finds that heavy walled rectangular welded carbon steel pipes and tubes (HWRPT) from the Republic of Korea (Korea) were not sold at less than normal value during the period of review (POR) September 1, 2022, through August 31, 2023.

DATES: Applicable July 8, 2025.

FOR FURTHER INFORMATION CONTACT: Sofia Pedrelli, AD/CVD Operations, Office II, Enforcement and Compliance, International Trade Administration, U.S. Department of Commerce, 1401 Constitution Avenue NW, Washington, DC 20230; telephone: (202) 482-4301.

SUPPLEMENTARY INFORMATION:

Background

On October 8, 2024, Commerce published in the Federal Register the preliminary results of the 2022-2023 administrative review ¹ of the antidumping duty order on HWRPT from Korea.²

¹ See Heavy Walled Rectangular Welded Carbon Steel Pipes and Tubes from the Republic of Korea: Preliminary Results and Rescission of Antidumping Duty Administrative Review, in Part; 2022-2023, 89 FR 81425 (October 8, 2024) (Preliminary Results), and accompanying Preliminary Decision Memorandum (PDM).

² See Heavy Walled Rectangular Welded Carbon Steel Pipes and Tubes from the Republic of Korea, Mexico, and the Republic of Turkey: Antidumping Duty Orders, 81 FR 62865 (September 13, 2016) (Order).

The review covers one company: HiSteel Co., Ltd. (HiSteel).

We invited parties to comment on the Preliminary Results.³ On November 7, 2024, we received case briefs from both HiSteel and the petitioner, Nucor Tubular Products Inc. (Nucor); we received a rebuttal brief from HiSteel on November 12, 2024.⁴ On December 9, 2024, we tolled administrative deadlines for antidumping and countervailing duty reviews by 90 days.⁵ For a complete description of the events that occurred since the Preliminary Results, see the Issues and Decision Memorandum.⁶ Commerce conducted this administrative review in accordance with section 751(a)(1)(B) of the Tariff Act of 1930, as amended (the Act).

³ See Preliminary Results.

⁴ See HiSteel's Letter, “HiSteel's Case Brief,” dated November 7, 2024; see also Nucor's Letter, “Nucor Tubular's Case Brief,” dated November 7, 2024; and HiSteel's Letter, “HiSteel's Rebuttal Brief,” dated November 12, 2024.

⁵ See Memorandum, “Tolling of Deadlines for Antidumping and Countervailing Duty Proceedings,” dated December 9, 2024.

⁶ See Memorandum, “Issues and Decision Memorandum for the Final Results of the Administrative Review of the Antidumping Duty Order on Heavy Walled Rectangular Welded Carbon Steel Pipes and Tubes from the Republic of Korea; 2022-2023,” dated concurrently with, and hereby adopted by, this notice (Issues and Decision Memorandum).

Scope of the Order

The products covered by the Order are HWRPT from Korea. A complete description of the scope of the Order is contained in the Issues and Decision Memorandum.

Analysis of Comments Received

All issues raised in the case briefs filed by interested parties in this administrative review are addressed in the Issues and Decision Memorandum and are listed in an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, Commerce made certain changes to the preliminary weighted-average dumping margin calculations for HiSteel for the final results of review.⁷

⁷ See Issues and Decision Memorandum.

On June 13 and June 16, 2025, respectively, the U.S. Court of Appeals for the Federal Circuit (Federal Circuit) issued mandates based on the Federal Circuit's opinions in Marmen and Stupp.⁸ In its opinions, the Federal Circuit held that it is unreasonable to use the Cohen's d test when the Cohen's d test is applied to data that do not satisfy certain statistical criteria. Accordingly, in an effort to comply with the Federal Circuit's holdings regarding the Cohen's d test, Commerce has revised the differential pricing analysis used in these final results, as described in the Issues and Decision Memorandum.⁹

⁸ See Marmen Inc. v. United States, 134 F.4th 1334 (Fed. Cir. 2025) (Marmen); Stupp Corp. v. United States, 2025 U.S. App. LEXIS 9616 (Fed. Cir. 2025) (non-precedential) (Stupp).

⁹ Although Commerce's preference is to provide interested parties with an opportunity to comment, given the impending statutory deadline of section 751(a)(2)(B)(iii) of the Act for the final results of this administrative review, there is insufficient time to allow for comments on the revised differential pricing analysis and related calculations for comment in this administrative review. Commerce's use of the average-to-average method in these final results remains unchanged from the Preliminary Results of this review. See Preliminary Results PDM at 6. Though parties did not have an opportunity to comment on the use of Commerce's new differential pricing analysis for the final results of this review, the new analysis did not impact the methodology used to calculate the dumping margin in these final results. No party argued in its case brief that the average-to-average method should not be used in the calculation of HiSteel's dumping margin in this review.

Final Results of Administrative Review

As a result of this review, we determine that the following estimated weighted-average dumping margins exist for the period September 1, 2022, through August 31, 2023:

Producer/exporter | Weighted-average dumping margin (percent)
HiSteel Co., Ltd | 0.00

Disclosure

Commerce intends to disclose the calculations performed in connection with these final results of review to interested parties within five days after public announcement of the final results or, if there is no public announcement, within five days of the date of publication of this notice in the Federal Register, in accordance with 19 CFR 351.224(b).

Assessment Rate

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), because HiSteel reported the entered value of their U.S. sales, we calculated importer-specific ad valorem duty assessment rates based on the ratio of the total amount of dumping calculated for each importer's examined sales and the total entered value of those sales. Where either the respondent's weighted-average dumping margin is zero or de minimis, within the meaning of 19 CFR 351.106(c)(1), or an importer-specific rate is zero or de minimis, we will instruct CBP to liquidate the appropriate entries without regard to antidumping duties.

For entries of subject merchandise during the POI produced by each individually examined respondent for which the producer did not know that the merchandise was destined for the United States, we will instruct CBP to liquidate unreviewed entries at the all-others rate established in the less-than-fair-value (LTFV) investigation (i.e., 3.24 percent) ¹⁰ if there is no rate for the intermediate company(ies) involved in the transaction.¹¹

¹⁰ See Order.

¹¹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review, as provided by section 751(a)(2)(C) of the Act: (1) the cash deposit rate for each company listed above will be equal to the weighted-average dumping margin established in the final results of this review; (2) for merchandise exported by producers or exporters not covered in this review but covered in a prior completed segment of the proceeding, the cash deposit rate will continue to be the company-specific rate published in the completed segment for the most recent period; (3) if the exporter is not a firm covered in this review, a prior review, or the original LTFV investigation, but the producer has been covered in a prior completed segment of this proceeding, then the cash deposit rate will be the rate established in the completed segment for the most recent period for the producer of the merchandise; and (4) the cash deposit rate for all other producers or exporters will continue to be 3.24 percent, the all-others rate established in the LTFV investigation for this proceeding.¹² These cash deposit requirements, when imposed, shall remain in effect until further notice.

¹² Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a violation subject to sanction.

Notification to Interested Parties

We are issuing and publishing this notice in accordance with sections 751(a)(1) and 777(i) of the Act, and 19 CFR 351.221(b)(5).

Dated: July 1, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Differential Pricing Analysis

VI. Discussion of the Issues

Comment 1: Whether to Remove an Added Perimeter Reporting Code

Comment 2: Treatment of Sales Excluded in Preliminary Calculations

VII. Recommendation

[FR Doc. 2025-12693 Filed 7-7-25; 8:45 am]

BILLING CODE 3510-DS-P